DEPARTMENT OF HOMELAND SECURITY

U.S. Citizenship and Immigration Services

[CIS No. 2849-26; DHS Docket No. USCIS-2015-0005]

RIN 1615-ZB76

Termination of the Designation of Yemen for Temporary Protected Status

AGENCY: U.S. Citizenship and Immigration Services (USCIS), Department of Homeland Security (DHS).

ACTION: Notice.

SUMMARY: Through this notice, the Department of Homeland Security (DHS) announces that the Secretary of Homeland Security (Secretary) is terminating the designation of Yemen for Temporary Protected Status (TPS). The designation of Yemen is set to expire on March 3, 2026. After reviewing country conditions and consulting with appropriate U.S. Government agencies, the Secretary determined that Yemen no longer continues to meet the conditions for designation for Temporary Protected Status. The Secretary, therefore, is terminating the Temporary Protected Status designation of Yemen as required by statute. This termination is effective May 4, 2026. After May 4, 2026, nationals of Yemen (and aliens having no nationality who last habitually resided in Yemen) who have been granted Temporary Protected Status under Yemen's designation will no longer have Temporary Protected Status.

DATES: The designation of Yemen for Temporary Protected Status is terminated, effective at 11:59 p.m., local time, on May 4, 2026.

FOR FURTHER INFORMATION CONTACT: Office of Policy and Strategy, U.S. Citizenship and Immigration Services, Department of Homeland Security, (240) 721-3000.

SUPPLEMENTARY INFORMATION:

List of Abbreviations

CFR—Code of Federal Regulations

DHS—U.S. Department of Homeland Security

EAD—Employment Authorization Document

FR—Federal Register

FRN—Federal Register Notice

Government—U.S. Government

INA—Immigration and Nationality Act

Secretary—Secretary of Homeland Security

TPS—Temporary Protected Status

USCIS—U.S. Citizenship and Immigration Services

U.S.C.—United States Code

What Is Temporary Protected Status (TPS)?

The Immigration and Nationality Act (INA) authorizes the Secretary of Homeland Security (Secretary), after consultation with appropriate agencies of the U.S. Government, to designate a foreign state (or part thereof) for Temporary Protected Status (TPS) if the Secretary determines that certain country conditions exist. See INA sec. 244(b)(1), 8 U.S.C. 1254a(b)(1). In order to designate a country for Temporary Protected Status in her discretion, the Secretary must determine one or more of the following: (1) there is an ongoing armed conflict within the country that would pose a serious threat to the personal safety of the country's nationals if they were returned; (2) there has been an environmental disaster resulting in a substantial, but temporary, disruption of the living conditions in the area affected, the country is temporarily unable to handle adequately the return of its nationals, and the country has officially requested Temporary Protected Status designation; or (3) there exist extraordinary and temporary conditions in the country that prevent nationals from returning safely and permitting the country's nationals to remain temporarily in the United States would not be contrary to the national interest of the United States. See INA sec. 244(b)(1), 8 U.S.C. 1254a(b)(1). A country (or part there of) may be designated for Temporary Protected Status based on one or more of the statutory bases. If the Secretary designates a country, she may, in her discretion, grant Temporary Protected Status to eligible nationals of that foreign state (or aliens having no nationality who last habitually resided in the designated foreign state). See INA sec. 244(a)(1)(A), 8 U.S.C. 1254a(a)(1)(A).

At least 60 days before the expiration of a foreign state's Temporary Protected Status designation or extension, the Secretary—after consultation with appropriate U.S. Government agencies—must review the conditions in the foreign state designated for Temporary Protected Status and determine whether the conditions for the Temporary Protected Status designation continue to be met. See INA sec. 244(b)(3)(A), 8 U.S.C. 1254a(b)(3)(A). If the Secretary determines that the conditions in the foreign state continue to meet the specific statutory criteria for the Temporary Protected Status designation, Temporary Protected Status will be extended for an additional period of 6 months or, in the Secretary's discretion, 12 or 18 months. See INA sec. 244(b)(3)(A), (C), 8 U.S.C. 1254a(b)(3)(A), (C). If the Secretary determines that the foreign state no longer meets the conditions for the Temporary Protected Status designation, the Secretary must terminate the designation. See INA sec. 244(b)(3)(B), 8 U.S.C. 1254a(b)(3)(B). There is no judicial review of “any determination of the [Secretary] with respect to the designation, or termination or extension of a designation of a foreign state” for Temporary Protected Status. INA sec. 244(b)(5)(A), 8 U.S.C. 1254a(b)(5)(A).

Temporary Protected Status is a temporary immigration benefit granted to eligible nationals of a country designated for Temporary Protected Status under the INA, or to eligible aliens without nationality who last habitually resided in the designated country. During the designation period, Temporary Protected Status beneficiaries are eligible to remain in the United States and may not be removed, so long as they continue to meet the requirements of Temporary Protected Status. In addition, Temporary Protected Status beneficiaries are authorized to work and obtain an Employment Authorization Document (EAD), if requested. Temporary Protected Status beneficiaries may also apply for and be granted travel authorization as a matter of discretion. The granting of Temporary Protected Status does not result in or lead to lawful permanent resident status or any other immigration status.

To qualify for Temporary Protected Status, beneficiaries must meet the eligibility requirements at INA section 244(c)(2), 8 U.S.C. 1254a(c)(2), in accordance with the implementing regulations at 8 CFR parts 244 and 1244. When the Secretary terminates a country's designation, beneficiaries return to the same immigration status or category that they maintained before Temporary Protected Status, if any (unless that status or category has since expired or been terminated), or any other lawfully obtained immigration status or category they received while registered for Temporary Protected Status, as long as it is still valid on the date Temporary Protected Status terminates.

Designation of Yemen for Temporary Protected Status

Yemen was initially designated for Temporary Protected Status on September 3, 2015, based on a determination that there was an ongoing armed conflict and that, due to that conflict, requiring nationals of Yemen to return would pose a serious threat to their personal safety.¹ Following the initial designation, DHS extended or extended and newly designated (referred to as a redesignation) Yemen for Temporary Protected Status in 2017,² 2018,³ 2020,⁴ 2021,⁵ 2023,⁶ and 2024.⁷ On January 4, 2017, Yemen's designation was extended, and Yemen was newly designated for Temporary Protected Status for 18 months on the dual bases of “ongoing armed conflict,” INA sec. 244(b)(1)(A), 8 U.S.C. 1254a(b)(1)(A), and “extraordinary and temporary conditions,” INA sec. 244(b)(1)(C), 8 U.S.C. 1254a(b)(1)(C). The former Secretaries subsequently extended Yemen's Temporary Protected Status designation in 2018 and 2020. Beginning in 2021, the former Secretary extended the designation and newly designated Yemen in 2021, 2023, and 2024 on the dual bases of ongoing armed conflict and extraordinary and temporary conditions.

¹ Designation of the Republic of Yemen for Temporary Protected Status, 80 FR 53319 (Sept. 3, 2015).

² Extension and Redesignation of Yemen for Temporary Protected Status, 82 FR 859 (Jan. 4, 2017).

³ Extension of the Designation of Yemen for Temporary Protected Status, 83 FR 40307 (Aug. 14, 2018).

⁴ Extension of the Designation of Yemen for Temporary Protected Status, 88 FR 12313 (Mar. 2, 2020).

⁵ Extension and Redesignation of Yemen for Temporary Protected Status, 86 FR 36295 (July 9, 2021).

⁶ Extension and Redesignation of Yemen for Temporary Protected Status, 88 FR 94 (Jan. 3, 2023).

⁷ Extension and Redesignation of Yemen for Temporary Protected Status, 89 FR 56765 (July 10, 2024).

Secretary's Authority To Terminate the Designation of Yemen for Temporary Protected Status

At least 60 days before the expiration of a foreign state's Temporary Protected Status designation or extension, the Secretary—after consultation with appropriate U.S. Government agencies—must review the conditions in the foreign state designated for Temporary Protected Status to determine whether the country continues to meet the conditions for the designation. See INA sec. 244(b)(3)(A), 8 U.S.C. 1254a(b)(3)(A). If the Secretary determines that foreign state no longer meets the conditions for the Temporary Protected Status designation, the Secretary must terminate the designation. See INA sec. 244(b)(3)(B), 8 U.S.C. 1254a(b)(3)(B). The termination may not take effect earlier than 60 days after the date the Federal Register notice of termination is published, or if later, the expiration of the most recent previous extension of the country designation. See id. The Secretary may determine the appropriate effective date of the termination and expiration of any Temporary Protected Status-related documentation, such as EADs, issued or renewed after the effective date of termination. See id.; see also INA sec. 244(d)(3), 8 U.S.C. 1254a(d)(3) (providing the Secretary the discretionary “option” to allow for a certain “orderly transition” period if she determines it to be “appropriate”).

Reasons for the Secretary's Termination of the Temporary Protected Status Designation for Yemen

Consistent with INA section 244(b)(3)(A), 8 U.S.C. 1254a(b)(3)(A), after consulting with appropriate U.S. Government agencies, the Secretary reviewed country conditions in Yemen and considered whether Yemen continues to meet the conditions for the designation under INA section 244(b)(1)(A) or (C), 8 U.S.C. 1254a(b)(1)(A) or (C). This review included examining under INA section 244(b)(1)(A), 8 U.S.C. 1254a(b)(1)(A), whether requiring the return of Yemeni nationals (and aliens having no nationality who last resided in Yemen) poses a serious threat to their personal safety due to an armed conflict. The Secretary also examined under INA section 244(b)(1)(C), 8 U.S.C. 1254a(b)(1)(C), whether extraordinary and temporary conditions in Yemen that prevent Yemeni nationals from returning in safety exist, and if permitting Yemeni nationals to remain temporarily in the United States is contrary to the national interest of the United States.

Following the Department's review, the Secretary has determined the situation in Yemen no longer meets the criteria for an ongoing armed conflict that poses a serious threat to the personal safety of returning Yemeni nationals. Although there may be sporadic instances of truncated armed conflict in Yemen, improvements demonstrate that this conflict does not appear to pose a threat to the safety of returning Yemeni nationals.

Yemen, a country of approximately 39 million people,⁸ entered a prolonged and still unresolved violent conflict in 2014, when the Houthi movement—also known as Ansar Allah—and forces allied with them, attempted to remove Yemen's then-sitting President, Abdu Rabbu Hadi.⁹ The Houthi forces launched a successful attack on Sana'a, Yemen's capital, capturing it and eventually forcing Yemeni government leaders into exile in Saudi Arabia. A violent territorial expansion across much of the country's north followed,¹⁰ which prompted a Saudi-led coalition to intervene into what quickly became a protracted regional proxy war between Saudi Arabia and Iran.¹¹

⁸ World Health Organization, “Yemen Data” https://data.who.int/countries/887 (accessed Dec. 10, 2025).

⁹ Christopher Blanchard, Congressional Research Service, “Yemen: Conflict, Red Sea Attacks, and U.S. Policy” (July 22, 2025), https://www.congress.gov/crs-product/IF12581#:~:text=Yemen%20is%20a%20conflict%2Dafflicted,and%20other%20anti%2DHouthi%20forces.

¹⁰ Ben Watson, The Atlantic, “The War in Yemen and the Making of a Chaos State” (Feb. 3, 2018), https://www.theatlantic.com/international/archive/2018/02/the-war-in-yemen-and-the-making-of-a-chaos-state/551987/.

¹¹ Associated Press, “Saudi Arabia praises `positive results' after Yemen's Houthi rebels visit kingdom for peace talks” (Sept. 30, 2023), https://apnews.com/article/saudi-arabia-yemen-war-peace-talks-d2a9ad9efe1ab0b4f5d51597098f46a2.

In January 2017, with the death toll officially reaching over 10,000, the conflict was considered by some in the international community to be a civil war.¹² In November 2019, the head of the internationally-recognized government of Yemen, President Hadi, allied with a southern separatist group,¹³ forming the Southern Transitional Council and challenging the Houthis' de facto authority.¹⁴ The primary domestic sides to the conflict are the Houthis on one side, and the Southern Transitional Council and the internationally-recognized government and coalition (led by Saudi Arabia, and including the United Arab Emirates, Kuwait, Bahrain, Egypt, Sudan, and Morocco),¹⁵ on the other.¹⁶ Each side is supported by multiple domestic and international actors.¹⁷ The internationally recognized Yemeni government, as well as the Houthis, face significant political, military, and economic challenges, generally resulting in a stalemate.¹⁸

¹² See British Broadcasting Corporation, “Yemen conflict: At least 10,000 killed, says UN” (Jan. 17, 2017), https://www.bbc.com/news/world-middle-east-38646066; see also Washington Post, “The deadly war in Yemen rages on. So why does the death toll stand still?” (Aug. 3, 2018), https://www.washingtonpost.com/world/the-deadly-war-in-yemen-rages-on-so-why-does-the-death-toll-stand-still-/2018/08/02/e6d9ebca-9022-11e8-ae59-01880eac5f1d_story.html; see also Florence Gaub, European Union Institute for Security Studies, “Civil wars: a very short introduction” (Oct. 2013), https://ciaotest.cc.columbia.edu/pbei/weu/0029419/f_0029419_23869.pdf.

¹³ Middle East Institute, “The Riyadh Agreement: Yemen's new cabinet and what remains to be done” (Feb. 1, 2021), https://www.mei.edu/publications/riyadh-agreement-yemens-new-cabinet-and-what-remains-be-done.

¹⁴ Council on Foreign Relations, “Conflict in Yemen and the Red Sea” (last updated Mar 26, 2025), https://www.cfr.org/global-conflict-tracker/conflict/war-yemen.

¹⁵ Daniel L. Byman, Brookings Institution, “Saudi Arabia And the United Arab Emirates Have a Disastrous Yemen Strategy” (July 17, 2018), https://www.brookings.edu/blog/order-from-chaos/2018/07/17/saudi-arabia-and-the-united-arab-emirates-have-a-disastrous-yemen-strategy.

¹⁶ Council on Foreign Relations, “Yemen's Tragedy: War, Stalemate, and Suffering” (May 1, 2023), https://www.cfr.org/backgrounder/yemen-crisis#chapter-title-0-3.

¹⁷ Council on Foreign Relations, “Conflict in Yemen and the Red Sea” (last updated Mar. 26, 2025), https://www.cfr.org/global-conflict-tracker/conflict/war-yemen.

¹⁸ Joshua Yaphe, National Interest, “Who's Winning Yemen's War? No One” (Oct. 7, 2025), https://nationalinterest.org/blog/middle-east-watch/whos-winning-yemens-war-no-one.

The conflict in Yemen since 2014 directly affected the physical security of the civilian population throughout the country.¹⁹ Tactics by the Houthi forces, the international coalition, and domestic and international terrorist organizations operating inside of Yemen previously put civilians at risk of harm.

¹⁹ Human Rights Watch, “2024 World Report: Yemen” (Jan. 11, 2024), https://www.hrw.org/world-report/2024/country-chapters/yemen.

Notable improvements with respect to the armed conflict in Yemen have been observed since April 2022. The United Nations brokered a two-month nationwide truce between the warring parties in Yemen, which was extended twice, each time by two months, expiring in October 2022. During the truce's implementation, there was a significant reduction in violence across the country, with the cessation of Saudi-led coalition airstrikes and major ground offensives by both sides, as well as the establishment of some humanitarian measures.²⁰ Although sporadic events continue to occur along the frontlines, the peace resulting from the April 2022 truce remains in effect.²¹

²⁰ UN News, “Yemen truce renewed for another two months” (Aug. 2, 2022), https://news.un.org/en/story/2022/08/1123832.

²¹ Security Council Report, “April 2025 Monthly Forecast: Yemen” (Mar. 31, 2025, https://www.securitycouncilreport.org/monthly-forecast/2025-04/yemen-77.php.

In January 2025, the Houthis' release of “conflict-related detainees” indicated notable progress towards reviving negotiations.²² In May 2025, a U.N. Special Envoy engaged Yemeni leadership to revive peace talks, focusing on a ceasefire, economic stabilization, and an inclusive political process.23 24

²² Al Jazeera, “Yemen's Houthi rebels release 153 prisoners of war” (Jan. 25, 2025), https://www.aljazeera.com/news/2025/1/25/yemens-houthi-rebels-release-153-prisoners-of-war.

²³ Security Council Report, “April 2025 Monthly Forecast: Yemen” (Mar. 31, 2025), https://www.securitycouncilreport.org/monthly-forecast/2025-04/yemen-77.php.

²⁴ United Nations, “9915th Meeting of the United Nations Security Council” (May 14, 2025), https://docs.un.org/en/S/PV.9915.

Early September 2025 saw skirmishes along the country's southern front lines, resulting in casualties on both sides.²⁵ Also in early September 2025, fighting occurred east of the city of Taiz, with the Yemeni army defending against the Houthi attackers and forcing the Houthis to retreat.²⁶ Nonetheless, during a briefing to the United Nations Security Council on September 15, 2025, the Special Envoy for Yemen noted that “relative calm and stability” continue to hold on the frontlines between rival groups in Yemen.²⁷

²⁵ The Security Council, “Yemen: October 2025 Monthly Forecast” (Sept. 30, 2025), https://www.securitycouncilreport.org/monthly-forecast/2025-10/yemen-83.php.

²⁶ Yemen Monitor, “Yemeni Army Thwarts Houthi Attack East of Taiz, Inflicting Casualties and Losses” (Sept. 6, 2025), https://www.yemenmonitor.com/en/Details/ArtMID/908/ArticleID/149300.

²⁷ Security Council Report, “October 2025 Monthly Forecast: Yemen” (Sept. 30, 2025), https://www.securitycouncilreport.org/monthly-forecast/2025-10/yemen-83.php.

Diplomatic efforts continue, including in October 2025, following the announcement of the ceasefire between Israel and Hamas, when the U.N. Special Envoy to Yemen noted that the ceasefire presents an opportunity to “reinforce regional stability, renew momentum toward peace in Yemen and create conditions that support sustained de-escalation and advance an inclusive political process.” ²⁸ In November 2025, the Special Envoy met with various regional stakeholders and discussed UN efforts to promote discussions aimed at achieving a comprehensive political solution that addresses regional concerns and secures lasting peace and stability in Yemen through “strengthen[ing] regional consensus” and “ensuring a unified international approach in support of the UN's mediation efforts.” ²⁹ Also, in November 2025, the Special Envoy met with the Houthis' Chief Negotiator, focusing on the need for an environment to advance the political process.³⁰

²⁸ Security Council Report, “November 2025 Monthly Forecast: Yemen” (Nov. 2, 2025), https://www.securitycouncilreport.org/monthly-forecast/2025-11/yemen-84.php.

²⁹ Security Council Report, “December 2025 Monthly Forecast: Yemen” (Nov. 30, 2025), https://www.securitycouncilreport.org/monthly-forecast/2025-12/yemen-85.php.

³⁰ Id.

In December 2025, the Southern Transitional Council, who remains in alliance with the Yemeni government in opposition to the Houthis, took over two of the eight provinces in Yemen. This territorial expansion does not appear to have been accompanied by violence.³¹ As outlined, areas in Yemen remain under control of the recognized government and its allies. As such, DHS has accordingly concluded that the conflict in Yemen does not appear to pose a threat to the safety of returning Yemeni nationals.

³¹ Reuters, “Yemen's power shift: Will southern separatist push shake fragile peace?” (Dec. 9, 2025), https://www.reuters.com/world/how-yemens-southern-power-shift-heightens-risk-turbulent-region-2025-12-09/; see also Ismaeel Naar, New York Times, “Yemeni Separatists Set Sights on Houthi-Controlled Capital” (Dec. 10, 2025), https://www.nytimes.com/2025/12/10/world/middleeast/yemen-separatists.html.

Of additional significance when evaluating the conditions in Yemen and the ability of Yemeni nationals to safety return to Yemen, a number of Yemeni nationals have requested advance parole documents for travel back to Yemen. This bears directly on the question of whether nationals may safely travel there. From 2018 through 2025, there were 142 applications for travel to Yemen.³² Additionally, U.S. Immigration and Customs Enforcement (ICE) is currently removing aliens to Yemen.³³

³² DHS Office of Performance and Quality, estimate as of Sept. 12, 2025.

³³ DHS Office of Homeland Security Statistics, Analysis of ICE Enforcement and Removal Operations, estimate as of September 30, 2025.

Based on the Department's review, the Secretary has further determined that while Yemen still experiences extraordinary and temporary conditions, the termination of Yemen's Temporary Protected Status designation is required because it is contrary to the national interest to permit Yemeni nationals (or nationals having no nationality who last habitually resided in Yemen) to remain temporarily in the United States. By statute, the Secretary is prohibited from designating a country for Temporary Protected Status or extending a Temporary Protected Status designation on the basis of extraordinary and temporary conditions if she finds that “permitting the aliens to remain temporarily in the United States is contrary to the national interest of the United States.” ³⁴

³⁴ See INA 244(b)(1)(C), 8 U.S.C. 1254a(b)(1)(C).

The most historically populous regions of Yemen in the north are currently ruled by the de facto Houthi government, which has been designated as a Foreign Terrorist Organization by the U.S. Department of State.³⁵ As millions fled Houthi-controlled areas,³⁶ internal displacement introduced a host of problems to relatively more stable regions in Yemen.³⁷ For example, internal displacement doubled the water demand in areas with large internally displaced persons camps.³⁸ The crucial challenge facing people living outside of Houthi-controlled areas is the “complete collapse of government institutions,” which exacerbates all the other challenges Yemenis face.³⁹

³⁵ Foreign Terrorist Organization Designation of Ansarallah, 90 FR 11352 (Mar. 5, 2025); see also U.S. Department of State, “Press Statement: Designation of Ansarallah as a Foreign Terrorist Organization,” (Mar. 4, 2025), https://www.state.gov/designation-of-ansarallah-as-a-foreign-terrorist-organization.

³⁶ Maggie Michael & Amr AlFiky, Reuters, “Special Report: How the Houthis rule in Yemen: Prisons, a personality cult, and pilfered food aid” (Oct. 15, 2025), https://www.reuters.com/investigations/how-houthis-rule-yemen-prisons-personality-cult-pilfered-food-aid-2025-10-15/.

³⁷ Ayman Omar, The Carnegie Endowment, “Struggling Over Every Drop: Yemen's Crisis of Aridity and Political Collapse” (Apr. 29, 2025), https://carnegieendowment.org/sada/2025/04/struggling-over-every-drop-yemens-crisis-of-aridity-and-political-collapse?lang=en.

³⁸ Id.

³⁹ Id.

Despite certain negative conditions in Yemen, the United Nations Development Programme, in partnership with the World Bank and others, is implementing agricultural and water infrastructure projects to improve food security, expand irrigated land, and create employment opportunities.⁴⁰ The Norwegian Refugee Council has enhanced access to clean water and sanitation for over 52,000 people through well rehabilitation and sanitation services.⁴¹

⁴⁰ United Nations Development Programme, “Combatting the effects of climate change to build food security in Yemen” (Sept. 29, 2024), https://www.undp.org/arab-states/stories/combatting-effects-climate-change-build-food-security-yemen.

⁴¹ Norwegian Refugee Council, “Yemen: Water situation worsens amid scant rains” (July 25, 2025), https://www.nrc.no/news/2025/july/yemen-water-situation-worsens-amid-scant-rains.

The United Nations Development Programme partnered with the World Bank, Social Fund for Development, and the Global Agriculture and Food Security Program to implement the Food Security Response and Resilience Project to construct rainwater harvesting reservoirs, prevent land erosion, and preserve agricultural lands, all while creating employment opportunities for local communities and facilitating their access to water for irrigation and livestock, offering a holistic approach to tackling food insecurity.⁴² Notably, there were improvements in humanitarian conditions in one-third of the geographic districts of Yemen due to sustained assistance and reduced conflict.⁴³ These changes include the “open[ing] of roads and improve[ment of] commercial access along frontlines, while decreasing displacement.” ⁴⁴

⁴² United Nations Development Programme, “Combatting the effects of climate change to build food security in Yemen” (Sept. 29, 2024), https://www.undp.org/arab-states/stories/combatting-effects-climate-change-build-food-security-yemen.

⁴³ Humanitarian Action, “Global Humanitarian Overview 2025: Yemen” (Dec. 4, 2025), https://humanitarianaction.info/document/global-humanitarian-overview-2025/article/yemen-2.

⁴⁴ Id.

The European Commission announced $93.5 million USD in humanitarian funding for 2025 to support people in need in Yemen,⁴⁵ was targeted toward food and health services—including those focusing on malnutrition and epidemics—as well as water provision, sanitation and hygiene and education, among other support measures.⁴⁶ The United Nations Office for the Coordination of Humanitarian Affairs estimated a reduction in the number of people with health needs between 2023 and 2024; from approximately 20.3 million in 2023 to approximately 17.8 million in 2024.⁴⁷

⁴⁵ Directorate-General for European Civil Protection and Humanitarian Aid Operations (ECHO), “EU announces €80 million humanitarian aid package for Yemen, European Commission” (May 21, 2025), https://civil-protection-humanitarian-aid.ec.europa.eu/news-stories/news/eu-announces-eu80-million-humanitarian-aid-package-yemen-2025-05-21_en.

⁴⁶ Id.

⁴⁷ UK Government, “Country policy and information note: humanitarian situation, Yemen, March 2025 (accessible version)” (Mar. 31, 2025), https://www.gov.uk/government/publications/yemen-country-policy-and-information-notes/country-policy-and-information-note-humanitarian-situation-yemen-march-2025-accessible-version.

Satellite imagery and machine learning analysis showed a significant expansion in cropland between 2018 and 2022.⁴⁸ Urban to rural migration has also emerged as households seek stability and improved living conditions; and this shift is seen as likely contributing to higher employment in agriculture.⁴⁹

⁴⁸ World Bank Group, “Yemen Economic Monitor: Persistent Fragility amid Rising Risks (English)” (May 29, 2025), https://documents1.worldbank.org/curated/en/099822505292530706/pdf/IDU-7009880b-d070-472d-9bf2-5cc72a3fc75d.pdf.

⁴⁹ Id.

The primary healthcare system of Yemen is being slowly and meaningfully rebuilt.⁵⁰ For example, between December 2024 and March 2025, 150 facilities across Yemen received operational support from the Kuwait Fund for Arab Economic Development.⁵¹ Critical supplies, such as disinfectants, soap, thermometers, and stationery were restocked, resulting in safer, cleaner, and more functional spaces.⁵²

⁵⁰ See, e.g., United Nations Yemen, “United Nations Children's Fund Yemen: Health, Hope, and a Hard Road Ahead—Inside Yemen's Community Clinics,” (Aug. 18, 2025), https://yemen.un.org/en/299987-unicef-yemen-health-hope-and-hard-road-ahead-inside-yemen's-community-clinics.

⁵¹ Id.

⁵² Id.

The European Union and International Finance Corporation, a member of the World Bank Group that focuses on private sector development in developing countries, formed a partnership in 2025 in Yemen to establish a Trust Fund to advance private sector development over the next five years.⁵³ The partnership's overarching goal is to contribute to Yemen's economic resilience and recovery by fostering local development and job creation.⁵⁴

⁵³ Delegation of the European Union to Yemen, “EU-IFC Trust Fund—Enhancing Private Sector Growth in Yemen, European External Action Service” (Aug. 1, 2025), https://www.eeas.europa.eu/delegations/yemen/eu-ifc-trust-fund-enhancing-private-sector-growth-yemen_en?s=211.

⁵⁴ Id.

In totality, although there have been some improvements, country conditions indicate that extraordinary and temporary conditions continue to challenge Yemeni nationals' ability to safely return home.

DHS acknowledges that there may appear to be some tension between its determination under INA section 244(b)(1)(A), 8 U.S.C. 1254a(b)(1)(A) that requiring the return of Yemeni nationals (and aliens having no nationality who last resided in Yemen) does not pose a serious threat to their personal safety due to an armed conflict; and its separate determination under INA section 244(b)(1)(C), 8 U.S.C. 1254a(b)(1)(C), that extraordinary and temporary conditions in Yemen that prevent Yemeni nationals from returning in safety may remain. DHS notes, however, that these are two separate statutory bases, each requiring its own determination based on separate facts. Accordingly, DHS does not believe there is inconsistency in finding that armed conflict does not prevent Yemenis from safely returning, while also finding that extraordinary and temporary conditions may continue to exist. DHS further notes that under the second prong of INA section 244(b)(1)(C), 8 U.S.C. 1254a(b)(1)(C), the Secretary must consider whether permitting Yemeni nationals to remain temporarily in the United States is contrary to the national interest of the United States.

Accordingly, even assuming that such extraordinary and temporary conditions remain, the Secretary has determined that permitting Yemeni nationals to remain temporarily in the United States is contrary to the U.S. national interest.

“National interest” is an expansive standard that may encompass an array of broad considerations, including foreign policy, public safety (e.g., potential nexus to criminal gang membership), national security, migration factors (e.g., pull factors), immigration policy (e.g., enforcement prerogatives), and economic considerations (e.g., adverse effects on U.S. workers, impact on U.S. communities).⁵⁵ Determining whether permitting a class of aliens to remain temporarily in the United States is contrary to the U.S. national interest therefore calls upon the Secretary's expertise and discretionary judgment, informed by her consultation with appropriate U.S. Government agencies. If the Secretary determines that it is contrary to the national interest of the United States to designate or extend Temporary Protected Status, the statute compels the Secretary to terminate the designation, even if extraordinary and temporary conditions exist.

⁵⁵ See, e.g., Poursina v. USCIS, 936 F.3d 868, 874 (9th Cir. 2019) (observing, in an analogous INA context, “that the `national interest' standard invokes broader economic and national-security considerations, and such determinations are firmly committed to the discretion of the Executive Branch—not to federal courts” (citing Trump v. Hawaii, 585 U.S. 667, 684-86 (2018)); Flores v. Garland, 72 F.4th 85, 89-90 (5th Cir. 2023) (same); Brasil v. Sec'y, Dep't of Homeland Sec., 28 F.4th 1189, 1193 (11th Cir. 2022) (same); cf. Matter of D-J-, 23 I&N Dec. 572, 579-81 (A.G. 2003) (recognizing that taking measures to stem and eliminate possible incentives for potential large-scale migration from a given country is “sound immigration policy” and an “important national security interest”); Matter of Dhanasar, 26 I&N Dec. 884, 890-91 (AAO 2016) (taking into account impact on U.S. workers in “national interest” assessments).

On June 4, 2025, President Trump issued Proclamation 10949, “Restricting the Entry of Foreign Nationals to Protect the United States from Foreign Terrorists and Other National Security and Public Safety Threats” to suspend or limit the entry into the United States of foreign nationals from certain countries whose screening, identity-management or information-sharing practices the U.S. Government has determined as deficient, and whose nationals may pose risk to national security or public safety.⁵⁶

⁵⁶ 90 FR 24497 (June 4, 2025).

This proclamation identified Yemen as one of the twelve countries identified for full suspension of entry (immigrant and nonimmigrants) noting that “Yemen lacks a competent or cooperative central authority for issuing passports or civil documents and it does not have appropriate screening and vetting measures.” ⁵⁷ This vulnerability has been a longstanding issue for Yemen. The U.S. Embassy in Sana'a closed and suspended services in February 2015 due to conflicts and high levels of insecurity within Yemen, further hindering the ability to locally confirm the validity of these identity documents.⁵⁸ The U.S. Department of State's Bureau of Consular Affairs also alerts that competing authorities, including areas of Houthi control, are issuing passports, leading to several European countries refusing to accept them since 2020.⁵⁹

⁵⁷ 90 FR 24501.

⁵⁸ U.S. Mission to Yemen, “U.S.-Yemen Relations,” https://ye.usembassy.gov/u-s-yemen-relations/.

⁵⁹ U.S. Department of State, “Yemen: Reciprocity Schedule,” https://travel.state.gov/content/travel/en/us-visas/Visa-Reciprocity-and-Civil-Documents-by-Country.html.

The President made his determination to suspend entry of Yemeni nationals after the President consulted with the Secretary of State, the Secretary of Defense, the Attorney General, the Secretary of Homeland Security, appropriate Assistants to the President, the Director of National Intelligence, and the Director of the Central Intelligence Agency.⁶⁰ The President also considered foreign policy, national security, and counterterrorism goals, as well as Yemen's screening and vetting capabilities, information sharing policies, and country-specific risk factors—including whether Yemen has a significant terrorist presence within its territory, its visa-overstay rate, and its cooperation with accepting back its removable nationals.⁶¹

⁶⁰ See 90 FR 24498-99.

⁶¹ See id.

The President's 2025 proclamation further supported the suspension of Yemeni entrants because the government of Yemen “does not have physical control over its own territory” and, since January 20, 2025, “has been the site of active United States military operations.” ⁶²

⁶² Id.

In January 2025, President Trump issued an order to “set in motion a process by which Ansar Allah, also known as the Houthis, shall be considered for designation as a Foreign Terrorist Organization.” ⁶³ In that order, President Trump noted the Houthis “have fired at U.S. Navy warships dozens of times since 2023, endangering American men and women in uniform. Since seizing most Yemeni population centers by force from the legitimate Yemeni government in 2014-2015, the Houthis have launched numerous attacks on civilian infrastructure, including multiple attacks on civilian airports in Saudi Arabia, the deadly January 2022 attacks on the United Arab Emirates, and more than 300 projectiles fired at Israel since October 2023. The Houthis have also attacked commercial vessels transiting Bab al-Mandeb more than 100 times, killing at least four civilian sailors and forcing some Red Sea maritime commercial traffic to reroute, which has contributed to global inflation.” ⁶⁴ President Trump accordingly concluded that “the Houthis' activities threaten the security of American civilians and personnel in the Middle East, the safety of our closest regional partners and the stability of global maritime trade.” ⁶⁵ Following the President's direction, the Department of State formally designated Ansar Allah as a Foreign Terrorist Organization in March 2025.⁶⁶

⁶³ Designation of Ansar Allah as a Foreign Terrorist Organization, 90 FR 8639 (Jan. 31, 2025) (originally published Jan. 22, 2025).

⁶⁴ Id.

⁶⁵ Id.

⁶⁶ Foreign Terrorist Organization Designation of Ansarallah, 90 FR 11352 (Mar. 5, 2025).

Further raising concerns for the national interest of the United States with respect to Yemen, as noted previously, since 2015, Yemen's capital Sana'a and northern and western region have been controlled by Ansar Allah.⁶⁷ They continue to hold areas encompassing 70% of Yemen's population, including de-facto control over the country's northern and western regions, while the internationally-recognized government maintains control of the southern and eastern regions.⁶⁸ President Trump noted that the Houthis are supported by Iran's Islamic Revolutionary Guard Quds Force (IRGC-QF),⁶⁹ another Foreign Terrorist Organization,⁷⁰ which arms and trains terrorist organizations around the world.⁷¹

⁶⁷ To be determined a Foreign Terrorist Organization, an organization must: (1) be foreign; (2) engage in terrorist activity, as defined in section 212(a)(3)(B) of the INA (8 U.S.C. 1182(a)(3)(B)), or terrorism, as defined in section 140(d)(2) of the Foreign Relations Authorization Act, Fiscal Years 1988 and 1989 (22 U.S.C. 2656f(d)(2)), or retain the capability and intent to engage in terrorist activity or terrorism; and (3) involve activity or terrorism that threatens the security of U.S. nationals or the national security (national defense, foreign relations, or the economic interests) of the United States.

⁶⁸ The White House, “Fact Sheet: President Donald J Trump Re-designates the Houthis as a Foreign Terrorist Organization” (Jan. 22, 2025), https://www.whitehouse.gov/fact-sheets/2025/01/fact-sheet-president-donald-j-trump-re-designates-the-houthis-as-a-foreign-terrorist-organization/; U.S. Department of State, “Designation of Ansarallah as a Foreign Terrorist Organization” (Mar. 4, 2025), https://www.state.gov/designation-of-ansarallah-as-a-foreign-terrorist-organization/; BBC, “Who are the Houthis and why is the U.S. targeting them?” (Mar. 25, 2025), https://www.bbc.com/news/world-middle-east-67614911; Nabeel A. Khoury, Arab Center Washington DC, “Yemen's Houthi Movement Reconsidered” (June 12, 2025), https://arabcenterdc.org/resource/yemens-houthi-movement-reconsidered/; U.S. Department of State, “Yemen 2024 Human Rights Report” (July 31, 2025), https://www.state.gov/wpcontent/uploads/2025/07/624521YEMEN-2024-HUMAN-RIGHTS-REPORT.pdf.

⁶⁹ The White House, “Designation of Ansar Allah as a Foreign Terrorist Organization” (Jan. 22, 2025), https://www.whitehouse.gov/presidential-actions/2025/01/designation-of-ansar-allah-as-a-foreign-terrorist-organization/.

⁷⁰ In the Matter of the Designation of the Islamic Revolutionary Guard Corps (and Other Aliases) as a Foreign Terrorist Organization, 84 FR 15278 (Apr. 15, 2019).

⁷¹ U.S. Department of State, “Fact Sheet: Designation of the Islamic Revolutionary Guard Corps” (Apr. 8, 2019), https://2017-2021.state.gov/designation-of-the-islamic-revolutionary-guard-corps/.

Al-Qaeda in the Arabian Peninsula (AQAP), a Yemen-based Al-Qaeda affiliate designated as a Foreign Terrorist Organization in 2009, continues to pose growing threat in the region.⁷² According to a United Nations Security Council report, AQAP is experiencing a resurgence, leveraging Yemen's ongoing instability to reorganize rank, strengthen internal structure, and enhance its operational capabilities.⁷³ In 2024, they carried out over 40 attacks targeting the internationally recognized Government of Yemen.⁷⁴ The United Nations report also indicates an emerging opportunistic relationship between AQAP and the Houthis, who ceased hostilities against each other in late 2022.⁷⁵ Reporting indicates collaboration between the two groups, to include weapons exchanges, joint training efforts, and prisoner swaps.76 77 In June 2025, AQAP leaders called for the assassination of President Trump, Vice President J.D. Vance and Elon Musk, among others.⁷⁸

⁷² Congressional Research Service, “Al Qaeda: Background, Current Status, and U.S. Policy” (May 6, 2024), https://www.congress.gov/crs-product/IF11854.

⁷³ South 24, “UN Report: AQAP Reorganizing in Yemen While Maintaining “Opportunistic” Ties with Houthis” (Jun. 8, 2025), https://outh24.net/news/newse.php?nid=4823; UN Security Council, “Thirty-sixth report of the Analytical Support and Sanctions Monitoring Team submitted pursuant to resolution 2734 (2024) concerning ISIL (Da'esh), Al-Qaida and associated individuals and entities” (July 24, 2025), https://docs.un.org/en/S/2025/482.

⁷⁴ Justice4Yemen Pact, “Evidence of Houthi/al-Qaida Cooperation in Yemen” (Mar. 2025), https://justice4yemenpact.org/articles/the-evolving-relationship-between-the-houthis-and-aqap-conflict-cooperation-and-strategic-interests/.

⁷⁵ UN Security Council, “Thirty-sixth report of the Analytical Support and Sanctions Monitoring Team submitted pursuant to resolution 2734 (2024) concerning ISIL (Da'esh), Al-Qaida and associated individuals and entities” (July 24, 2025), https://docs.un.org/en/S/2025/482.

⁷⁶ Justice4Yemen Pact, “Evidence of Houthi/al-Qaida Cooperation in Yemen (Mar. 2025), https://justice4yemenpact.org/articles/the-evolving-relationship-between-the-houthis-and-aqap-conflict-cooperation-and-strategic-interests/.

⁷⁷ UN Security Council, “Thirty-sixth report of the Analytical Support and Sanctions Monitoring Team submitted pursuant to resolution 2734 (2024) concerning ISIL (Da'esh), Al-Qaida and associated individuals and entities” (July 24, 2025), https://docs.un.org/en/S/2025/482.

⁷⁸ Al Jazeera, “Yemen's al-Qaeda leader threatens Trump, Musk over Israel's war on Gaza” (June 7, 2025), https://www.aljazeera.com/news/2025/6/7/yemens-al-qaeda-leader-threatens-trump-musk-over-israels-war-on-gaza.

Additionally, DHS records indicate some of the Yemeni nationals who have applied for or been granted Temporary Protected Status have been under administrative investigation for risk to national security or public safety, or for attempting to obtain immigration benefits through fraud or misrepresentation. DHS accordingly took account of those cases in making the decision to terminate TPS, as fraud and egregious public safety violations are contrary to the national interest.

Contributing further to the national interest concerns of the United States with respect to Yemeni nationals in the United States are instances of Yemeni nationals overstaying their nonimmigrant visas. There was a large spike in Yemeni visa overstay rates in 2018, coinciding with the initial designation of Temporary Protected Status for Yemen in early January 2017.⁷⁹ Yemen's visa overstay rates have subsequently consistently remained very high compared to the global average from Fiscal Year 2018 to 2024. There were approximately 600 overstays among nonimmigrant visa holders with an “Admit Until” date that fell in Fiscal Year 2023, 670 overstays with a date that fell in Fiscal Year 2024, and 230 overstays among visa holders with a date that fell in Fiscal Year 2025.⁸⁰ Due to the former Secretary's decision to extend and newly designate Yemen for Temporary Protected Status, many of these visa overstays who arrived after the initial designation became newly eligible to apply for Temporary Protected Status. According to the Fiscal Year 2024 Department of Homeland Security Entry/Exit Overstay Report, Yemen had a Non-Visa Waiver Program Countries Business or Pleasure Visitors (B-1/B-2) visa overstay rate of 17.1% and a Student and Exchange Visitors (F, M, J) visa overstay rate of 25.7%.⁸¹ These rates exceed by a large margin the global average of overstay rates of 2.3% for B-1/B-2 visas and 3.23% for F, M, J visas—over six times higher for business or pleasure visitors and nearly seven times higher for student and exchange visitors.⁸² Elevated overstay rates present potential risks to U.S. national security and public safety, as individuals who overstay their visas may be harder to locate and monitor, increasing vulnerabilities within immigration enforcement systems.

⁷⁹ U.S. Customs and Border Protection, “Fiscal Year 2018 Entry/Exit Overstay Report” (Apr. 17, 2019), https://www.dhs.gov/sites/default/files/publications/19_0417_fy18-entry-and-exit-overstay-report.pdf.

⁸⁰ U.S. Customs and Border Protection (CBP), “Fiscal Year 2018 Entry/Exit Overstay Report” (Apr. 17, 2019), https://www.dhs.gov/sites/default/files/publications/19_0417_fy18-entry-and-exit-overstay-report.pdf; see also CBP, “Fiscal Year 2019 Entry/Exit Overstay Report” (May 13, 2020), https://www.dhs.gov/sites/default/files/publications/20_0513_fy19-entry-and-exit-overstay-report.pdf; CBP, “Fiscal Year 2020 Entry/Exit Overstay Report” (Dec. 1, 2021), https://www.dhs.gov/sites/default/files/2021-12/CBP%20-%20FY%202020%20Entry%20Exit%20Overstay%20Report_0.pdf; CBP, “Fiscal Year 2022 Entry/Exit Overstay Report” (July 7, 2023), https://www.dhs.gov/sites/default/files/2023-07/23_0707_FY22_FY23_CBP_Integrated_Entry_Exit_Overstay_Report.pdf; CBP, “Entry/Exit Overstay Report: Fiscal Year 2023 Report to Congress,” (Aug. 5, 2024), https://www.dhs.gov/sites/default/files/2024-10/24_1011_CBP-Entry-Exit-Overstay-Report-FY23-Data.pdf; CBP, “Entry/Exit Overstay Report: Fiscal Year 2024 Report to Congress” (July 16, 2025), https://www.dhs.gov/sites/default/files/2025-09/25_0912_cbp_entry-exit-overstay-report-fiscal-year-2024.pdf. FY2025 data are as of October 3, 2025. Aliens who overstayed multiple times are counted more than once.

⁸¹ CBP, Entry/Exit Overstay Report, Department of Homeland Security (July 16, 2025), https://www.dhs.gov/sites/default/files/2025-08/250826cbpentry-exit-overstay-report-fiscal-year-2024.pdf.

⁸² Id.

The high level of unlawful presence by Yemeni nationals is likely in part driven by Temporary Protected Status designations—particularly repeated new designations. Studies have found immigration regularization or legalization programs (of which Temporary Protected Status is one example, particularly in cases where a country's designation is both extended and newly designated on a regular cadence) can act as a pull factor attracting migration, especially when combined with other factors, such as broader policies, generosity of the program, and perceptions of leniency in enforcement at the destination country.⁸³ The expectation of repeated new Temporary Protected Status designations, and employment authorization offered by Temporary Protected Status, likely contributed to newly arriving Yemenis nationals' decision to remain in the United States unlawfully.

⁸³ See, e.g., Paul Elguezabal & Inmaculada Martinez-Zarzoso, International Network for Economic Research, “Are Immigration Regularization Programs a Pull Factor? Evidence for OECD Countries,” (2024), https://infer-research.eu/wp-content/uploads/2024/10/WP2024.14.pdf.

The Department has accordingly considered the national interest factors and determined that continuing to permit Yemeni nationals (and aliens having no nationality who last habitually resided in Yemen) to reside in the United States under Temporary Protected Status is contrary to the U.S. national interest; therefore, termination of the Yemen Temporary Protected Status designation is required.

DHS estimates that as of December 8, 2025 there were approximately 2,810 beneficiaries under the designation of Yemen for Temporary Protected Status, and 425 total pending applications 84 85 for the designation of Yemen for Temporary Protected Status.⁸⁶

⁸⁴ DHS, Office of Performance and Quality, estimate as of December 8, 2025.

⁸⁵ The DHS Office of Homeland Security Statistics estimates that an additional approximately 1000 nationals of Yemen who entered the United States since July 2, 2024, could become newly eligible for Temporary Protected Status if Yemen is newly designated. Estimate as of October 21, 2025.

⁸⁶ The DHS Office of Homeland Security Statistics estimates that an additional approximately 1000 nationals of Yemen who entered the United States since July 2, 2024, could become newly eligible for Temporary Protected Status if Yemen is newly designated. Estimate as of October 21, 2025.

Effective Date of Termination of the Designation

The Temporary Protected Status statute provides that the termination of a country's Temporary Protected Status designation may not be effective earlier than 60 days after the notice is published in the Federal Register or, if later, the expiration of the most-recent previous extension. See INA sec. 244(b)(3)(B), 8 U.S.C. 1254a(b)(3)(B).

The Temporary Protected Status statute authorizes the Secretary, at her discretionary option as she deems appropriate, to allow for an extended “orderly transition” period with respect to the termination and the expiration of any Temporary Protected Status-related documentation, such as Employment Authorization Documents. The Secretary has determined, in her discretion, that a 60-day transition period is sufficient and warranted here given the Secretary's finding that continuing to permit the Yemeni nationals to remain temporarily in the United States is contrary to the U.S. national interest. See INA sec. 244(d)(3), 8 U.S.C. 1254a(d)(3). Accordingly, the termination of the Yemen Temporary Protected Status designation will be effective 60 days from this notice's publication date.⁸⁷

⁸⁷ See 8 CFR 244.19 (“Upon the termination of designation of a foreign state, those nationals afforded temporary Protected Status shall, upon the sixtieth (60th) day after the date notice of termination is published in the Federal Register, or on the last day of the most recent extension of designation by the [Secretary of Homeland Security], automatically and without further notice or right of appeal, lose Temporary Protected Status in the United States. Such termination of a foreign state's designation is not subject to appeal.”).

DHS recognizes that Yemen Temporary Protected Status beneficiaries continue to be authorized to work during the 60-day transition period.⁸⁸ Accordingly, through this Federal Register notice, DHS automatically extends the validity of certain Employment Authorization Documents previously issued under the Temporary Protected Status designation of Yemen through May 4, 2026. Therefore, as proof of continued employment authorization through May 4, 2026, Temporary Protected Status beneficiaries can show their Employment Authorization Documents that have the notation A-12 or C-19 under Category and a “Card Expires” date of March 3, 2023, September 3, 2024, and March 3, 2026.

⁸⁸ See INA 244(a)(1)(B), 8 U.S.C. 1254a(a)(1)(B); see also 8 CFR 244.13(b).

The Secretary has considered putative reliance interests in the Yemen Temporary Protected Status designation, especially when considering whether to allow for an additional transition period akin to that allowed under certain previous Temporary Protected Status terminations. Temporary Protected Status, as the name itself makes clear, is an inherently temporary status. Temporary Protected Status designations are time-limited and must be periodically reviewed, and Temporary Protected Status notices clearly notify aliens of the designations' expiration dates, and whether to allow for an orderly transition period is left to the Secretary's unfettered discretion. See INA sec. 244(b)(3), (d)(3); 8 U.S.C. 1254a(b)(3), (d)(3). The statute inherently contemplates advance notice of a termination by requiring timely publication of the Secretary's determination and delaying the effective date of the termination by at least 60 days after publication of a Federal Register notice of the termination or, if later, the existing expiration date. See INA sec. 244(b)(3)(A)-(B), (d)(3); 8 U.S.C. 1254a(b)(3)(A)-(B), (d)(3).

Notice of the Termination of the Temporary Protected Status Designation of Yemen

By the authority vested in me as Secretary under INA section 244(b)(3), 8 U.S.C. 1254a(b)(3), I have reviewed, in consultation with the appropriate U.S. Government agencies, whether Yemen is experiencing ongoing armed conflict that poses a serious threat to the personal safety of Yemeni nationals; whether extraordinary and temporary conditions in Yemen that prevent Yemeni nationals from returning in safety continue to exist; and whether permitting the nationals of Yemen (and aliens having no nationality who last habitually resided in Yemen) to remain temporarily in the United States is contrary to the national interest of the United States. Based on my review, I have determined that Yemen no longer continues to meet the conditions for Temporary Protected Status under INA section 244(b)(1)(A) or (C), 8 U.S.C. 1254a(b)(1)(A) or (C).

Accordingly, I order as follows:

(1) Pursuant to INA section 244(b)(3)(B), 8 U.S.C. 1254a(b)(3)(B), and considering INA section 244(d)(3), 8 U.S.C. 1254a(d)(3), the designation of Yemen for Temporary Protected Status is terminated effective at 11:59 p.m., local time, on May 4, 2026.

(2) Information concerning the termination of Temporary Protected Status for nationals of Yemen (and aliens having no nationality who last habitually resided in Yemen) will be available at local USCIS office upon publication of this notice and through the USCIS Contact Center at 1-800-375-5283. This information will be published on the USCIS website at www.uscis.gov.

Kristi Noem,
Secretary of Homeland Security.

[FR Doc. 2026-04179 Filed 3-2-26; 8:45 am]

BILLING CODE 9111-97-P